DEPARTMENT OF COMMERCE

International Trade Administration

[C-570-068]

Aluminum Extrusions From the People's Republic of China: Amended Final Results of Countervailing Duty Administrative Review; 2013

AGENCY: Enforcement and Compliance, International Trade Administration, Department of Commerce.

SUMMARY: On December 14, 2015, the Department of Commerce (the Department) published the Final Results of the administrative review of the countervailing duty (CVD) order ¹ on aluminum extrusions from the People's Republic of China (PRC) for the January 1, 2013, through December 31, 2013 period of review (POR).² As explained below, the Department is amending the Final Results to correct the net subsidy rates for the Jangho Companies,³ non-selected cooperative respondents, and companies for which we applied total adverse facts available (AFA) in the Final Results. The amended final net subsidy rates are listed below in “Amended Final Results of Administrative Review.” ⁴

¹ See Aluminum Extrusions from the People's Republic of China: Countervailing Duty Order, 76 FR 30653 (May 26, 2011) (Order).

² See Aluminum Extrusions from the People's Republic of China: Final Results, and Partial Rescission of Countervailing Duty Administrative Review; 2013, 80 FR 77325, dated December 14, 2015 (Final Results); Memorandum from Christian Marsh, Deputy Assistant Secretary for Antidumping and Countervailing Duty Operations to Paul Piquado Assistant Secretary for Enforcement and Compliance regarding: “Decision Memorandum for the Final Results of Countervailing Duty Administrative Review: Aluminum Extrusions from the People's Republic of China, 2013 (Third Review),” December 7, 2015 (Final Results Issues and Decision Memorandum).

³ For purposes of this administrative review, the Jangho Companies includes Guangzhou Jangho Curtain Wall System Engineering Co., Ltd., (Guangzhou Jangho); Jangho Group Co., Ltd. (Jangho Group Co.); Beijing Jiangheyuan Holding Co., Ltd (Beijing Jiangheyuan); Beijing Jangho Curtain Wall System Engineering Co., Ltd. (Beijing Jangho); and Shanghai Jangho Curtain Wall System Engineering Co., Ltd., (Shanghai Jangho).

⁴ On December 17, 2015, the Department issued a memorandum correcting certain inadvertent errors in the Issues and Decision Memorandum. See Memorandum to the File from Tyler Weinhold: “Countervailing Duty Order on Aluminum Extrusions from the People's Republic of China: Errors in the Issues and Decision Memorandum for the Final Results of the 2013 Administrative Review,” December 17, 2015. We hereby incorporate that memorandum by reference in this notice.

DATES: Effective Date: March 22, 2016.

FOR FURTHER INFORMATION CONTACT: Davina Friedmann, Tyler Weinhold or Robert James, AD/CVD Operations, Office VI, Enforcement and Compliance, International Trade Administration, U.S. Department of Commerce, 14th Street and Constitution Avenue NW., Washington, DC 20230; telephone: (202) 482-0698, (202) 482-1121 or (202) 482-0649, respectively.

SUPPLEMENTARY INFORMATION:

Background

On December 14, 2015, the Department published the Final Results.⁵ On December 15, 2015, the Jangho Companies alleged that certain ministerial errors were contained in the Final Results, and requested that the Department correct such errors.⁶ No other party has submitted ministerial error comments or rebuttal comments.

⁵ See Final Results.

⁶ See letter from the Jangho Companies to the Department regarding: “Aluminum Extrusions from the People's Republic of China: Ministerial Errors,” December 15, 2015 (Ministerial Error Allegation).

Before the Department could take action on the alleged ministerial errors, both Taizhou United Imp & Exp Co Ltd. and the Jangho Companies filed a summons and complaint with the U.S. Court of International Trade (“CIT”) challenging the Final Results, which vested the CIT with jurisdiction over the administrative proceeding.⁷ On February 8 and 12, 2016, the CIT granted the Department leave to publish amended final results upon considering the ministerial error allegations.⁸

⁷ See Zenith Elecs. Corp. v. United States, 884 F.2d 556, 561-62 (Fed. Cir. 1989).

⁸ See Taizhou United Imp. & Exp. Co. Ltd. v. United States, CIT No. 16-00009; Guangzhou Jangho Curtain Wall System Engineering Co., Ltd. et al v. United States, CIT No. 16-00012.

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents).⁹

⁹ See Final Results Issues and Decision Memorandum for a complete description of the scope of the Order.

Imports of the subject merchandise are provided for under the following categories of the Harmonized Tariff Schedule of the United States (HTSUS): 9031.90.90.95, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8418.99.80.05, 8418.99.80.50, 8418.99.80.60, 8419.90.10.00, 8422.90.06.40, 8479.90.85.00, 8486.90.00.00, 8487.90.00.80, 8503.00.95.20, 8515.90.20.00, 8516.90.50.00, 8516.90.80.50, 8708.80.65.90, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.

Correction to the Final Results

As discussed in the memoranda accompanying this notice, and which are hereby adopted by this notice, we determine that the Final Results contained two ministerial errors.¹⁰ First, in Guangzhou Jangho's glass for less than adequate remuneration (LTAR) purchases and benefits spreadsheet, we inadvertently referenced the wrong column in the transaction-specific benefits formulas for Guangzhou Jangho's glass purchases. We have corrected this error by modifying the relevant formula to refer to the correct column. Second, in Shanghai Jangho's aluminum extrusions for LTAR purchases and benefits spreadsheet, the formulas used to reference monthly aluminum extrusions benchmark prices were returning the value for the wrong month in certain instances, and in some instances we had used incorrect formulas. We have corrected these errors.

¹⁰ See Memorandum from Tyler Weinhold and Davina Friedmann, through Robert James, program Manager, Office VI, to Scot Fullerton, Director, AD/CVD Operations, Office VI, regarding: “Administrative Review of Countervailing Duty Order on Aluminum Extrusions from the People's Republic of China: Ministerial Error Allegation,” dated concurrently with this memorandum (Amended Final Results Decision Memorandum), and Memorandum from Tyler Weinhold through Robert James, Program Manager, Office VI, to the File, regarding: “Administrative Review of Countervailing Duty Order on Aluminum Extrusions from the People's Republic of China: Amended Final Results Analysis Memorandum for the Jangho Companies,” dated concurrently with this memorandum (Amended Final Analysis Memorandum for the Jangho Companies).

Amendment to Rates for Non-Selected Companies Under Review

In light of the above corrections, for the 38 companies for which a review was requested and not rescinded, but were not selected as mandatory respondents, we have recalculated the net subsidy rate which is based on the overall subsidy rates calculated for the mandatory respondents of this review.¹¹

¹¹ For further information see Memorandum from Davina Friedmann and Tyler Weinhold, Case Analysts, to Robert James, Program Manager, Office VI, AD/CVD Operations, regarding: “Administrative Review of Countervailing Duty Order on Aluminum Extrusions from the People's Republic of China: Non-Selected Rate Calculation Memorandum for the Amended Final Results,” dated concurrently with these amended final results of review.

We have also recalculated the net subsidy rate assigned to those companies for which we applied AFA in the Final Results because the AFA rate includes the individual subsidy rates determined for the glass for LTAR and aluminum extrusions for LTAR programs.¹²

¹² For further information see Memorandum from Davina Friedmann and Tyler Weinhold, Case Analysts, to Robert James, Program Manager, Office VI, AD/CVD Operations, regarding: “Administrative Review of Countervailing Duty Order on Aluminum Extrusions from the People's Republic of China: AFA Calculation Memorandum for the Amended Final Results,” dated concurrently with these amended final results of review.

¹³ Because the net subsidy rate for the Guang Ya Group did not change as a result of these amended final results, their net subsidy rate remains the same as was published in the Final Results. See Final Results, 80 FR 77325, 77327.

¹⁴ In the Final Results, the Department misspelled the name of this company. This error has been corrected for these amended final results of review.

Amended Final Results of Administrative Review

In accordance with 19 CFR 351.224(e) we determine the following amended final net subsidy rates for the 2013 administrative review:

Company | Ad Valorem rate ¹³ (percent)
Allied Maker Limited | 28.01
Alnan Aluminum Co. Ltd | 28.01
Bracalente Metal Producers (Suzhou) Co. Ltd ¹⁴ | 28.01
Changzhou Changzheng Evaporator Co., Ltd | 28.01
Classic & Contemporary Inc. | 28.01
Danfoss Micro Channel Heat Exchanger (Jia Xing) Co. Ltd | 28.01
Dongguan Golden Tiger Hardware Industrial Co., Ltd | 28.01
Dynamic Technologies China Ltd | 187.86
Ever Extend Ent. Ltd | 28.01
Fenghua Metal Product Factory | 28.01
Foreign Trade Co. of Suzhou New & High Tech Industrial Development Zone | 187.86
Foshan Shunde Aoneng Electrical Appliances Co., Ltd | 187.86
Golden Dragon Precise Copper Tube Group | 187.86
Guandong JMA Aluminum Profile (Group) Co., Ltd | 28.01
Guangdong Whirlpool Electrical Appliances Co. Ltd | 28.01
Guangdong Zhongya Aluminum Company Limited | 28.01
Hanyung Alcobis Co., Ltd | 28.01
Hangyung Metal (Suzhou) Co., Ltd | 28.01
Henan New Kelong Electrical Appliances, Co., Ltd | 28.01
IDEX Dinglee Technology (Tianjin) Co., Ltd | 28.01
IDEX Technology Suzhou Co., Ltd | 28.01
Jangho Companies | 29.18
Jiangsu Susun Group (HK) Co., Ltd | 28.01
Justhere Co., Ltd | 28.01
Kromet International Inc. | 28.01
Metaltek Group Co. Ltd | 28.01
North Fenghua Aluminum Limited | 28.01
Nidec Sankyo Singapore Pte. Ltd | 28.01
Nanhai Textiles Import & Export Co., Ltd | 28.01
Permasteelisa Hong Kong Ltd | 28.01
Permasteelisa South China Factory | 28.01
Sapa Profiles (Shanghai) Co., Ltd | 28.01
Shanghai Tongtai Precise Aluminum Alloy Manufacturing Co., Ltd | 28.01
Shenyang Yuanda Aluminum Industry Engineering Co., Ltd | 28.01
Taishan City Kam Kiu Aluminum Extrusion Co., Ltd | 28.01
Taizhou United Imp & Exp Co Ltd | 28.01
tenKsolar (Shanghai) Co., Ltd | 28.01
Union Industry (Asia) Co., Limited | 28.01
Whirlpool Microwave Products Development Ltd | 28.01
WTI Building Products, Ltd | 187.86
Zhaoqing Asia Aluminum Factory Company Ltd | 187.86
Zhejiang Dongfeng Refrigeration Components Co. Ltd | 28.01
Zhongya Shaped Aluminum (HK) Holding Limited | 28.01
Zhongshan Daya Hardware Co., Ltd | 28.01
Zhaoqing New Zhongya Aluminum Co., Ltd | 28.01

Assessment Rates

The Department intends to issue appropriate assessment instructions directly to CBP 15 days after publication of these amended final results of review, to liquidate appropriate shipments of subject merchandise entered, or withdrawn from warehouse, for consumption on or after January 1, 2013, through December 31, 2013, at the ad valorem rates listed above.

Cash Deposit Requirements

The Department also intends to instruct CBP to collect cash deposits of estimated countervailing duties in the amounts indicated above for each company listed above on shipments of subject merchandise entered, or withdrawn from warehouse, for consumption on or after December 14, 2015, the date of publication of the Final Results. For all non-reviewed firms, we will instruct CBP to continue to collect cash deposits of estimated countervailing duties at the most recent company-specific or all-others rate applicable to the company, as appropriate. These cash deposit requirements, when imposed, shall remain in effect until further notice. We will disclose the calculations performed for these amended final results to interested parties within five business days of the date of publication of this notice.

We are issuing and publishing these results in accordance with sections 751(a)(1), 751(h), and 777(i)(1) of the Act; and 19 CFR 351.224(e) and (h).

Dated: March 15, 2016.
Paul Piquado,
Assistant Secretary for Enforcement and Compliance.

[FR Doc. 2016-06425 Filed 3-21-16; 8:45 am]

BILLING CODE 3510-DS-P